DEPARTMENT OF ENERGY

Federal Energy Regulatory Commission

Combined Notice of Filings

Take notice that the Commission has received the following Natural Gas Pipeline Rate and Refund Report filings:

Filings Instituting Proceedings

Docket Numbers: RP25-916-000.

Applicants: ANR Pipeline Company.

Description: 4(d) Rate Filing: ANR—Constellation 140898 Negotiated Rate Agreement to be effective 6/1/2025.

Filed Date: 5/29/25.

Accession Number: 20250529-5198.

Comment Date: 5 p.m. ET 6/10/25.

Docket Numbers: RP25-917-000.

Applicants: Colorado Interstate Gas Company, LLC.

Description: 4(d) Rate Filing: CIG Quarterly LUF True-up Filing May 2025 to be effective 7/1/2025.

Filed Date: 5/29/25.

Accession Number: 20250529-5212.

Comment Date: 5 p.m. ET 6/10/25.

Docket Numbers: RP25-918-000.

Applicants: Elba Express Company, LLC.

Description: Compliance filing: EEC Cashout Filing 2025 to be effective N/A.

Filed Date: 5/29/25.

Accession Number: 20250529-5314.

Comment Date: 5 p.m. ET 6/10/25.

Docket Numbers: RP25-919-000.

Applicants: Columbia Gas Transmission, LLC.

Description: 4(d) Rate Filing: Negotiated Rate Agmt BP 319369, Eff. 5.30.25 to be effective 5/30/2025.

Filed Date: 5/29/25.

Accession Number: 20250529-5318.

Comment Date: 5 p.m. ET 6/10/25.

Docket Numbers: RP25-920-000.

Applicants: Columbia Gas Transmission, LLC.

Description: 4(d) Rate Filing: Negotiated Rate Amendment CNX 198824, Eff. 6.1.25 to be effective 6/1/2025.

Filed Date: 5/29/25.

Accession Number: 20250529-5320.

Comment Date: 5 p.m. ET 6/10/25.

Docket Numbers: RP25-921-000.

Applicants: Sea Robin Pipeline Company, LLC.

Description: 4(d) Rate Filing: 5-30-25 Fuel Tracker Filing to be effective 7/1/2025.

Filed Date: 5/30/25.

Accession Number: 20250530-5039.

Comment Date: 5 p.m. ET 6/11/25.

Docket Numbers: RP25-922-000.

Applicants: Tennessee Gas Pipeline Company, LLC.

Description: 4(d) Rate Filing: Negotiated Rate Agreement Filing—Cima Energy, LP to be effective 6/1/2025.

Filed Date: 5/30/25.

Accession Number: 20250530-5056.

Comment Date: 5 p.m. ET 6/11/25.

Docket Numbers: RP25-923-000.

Applicants: Kinder Morgan Louisiana Pipeline LLC.

Description: 4(d) Rate Filing: Periodic Rate Adjustment—Fuel and L&U Retention Percentages July 2025 to be effective 7/1/2025.

Filed Date: 5/30/25.

Accession Number: 20250530-5059.

Comment Date: 5 p.m. ET 6/11/25.

Docket Numbers: RP25-924-000.

Applicants: Equitrans, L.P.

Description: 4(d) Rate Filing: Negotiated Rate Agreement 06/01/2025 to be effective 6/1/2025.

Filed Date: 5/30/25.

Accession Number: 20250530-5185.

Comment Date: 5 p.m. ET 6/11/25.

Docket Numbers: RP25-925-000.

Applicants: NEXUS Gas Transmission, LLC.

Description: 4(d) Rate Filing: Negotiated Rates—Various Releases eff 6-1-2025 to be effective 6/1/2025.

Filed Date: 5/30/25.

Accession Number: 20250530-5232.

Comment Date: 5 p.m. ET 6/11/25.

Docket Numbers: RP25-926-000.

Applicants: TransColorado Gas Transmission Company LLC.

Description: 4(d) Rate Filing: TC Quarterly FL&U Update May 2025 to be effective 7/1/2025.

Filed Date: 5/30/25.

Accession Number: 20250530-5244.

Comment Date: 5 p.m. ET 6/11/25.

Docket Numbers: RP25-927-000.

Applicants: MarkWest Pioneer, LLC.

Description: 4(d) Rate Filing: Quarterly Fuel Adjustment Filing to be effective 7/1/2025.

Filed Date: 5/30/25.

Accession Number: 20250530-5249.

Comment Date: 5 p.m. ET 6/11/25.

Docket Numbers: RP25-928-000.

Applicants: Alliance Pipeline L.P.

Description: 4(d) Rate Filing: Negotiated Rates—Releases, Usage, Name Change 06-01-2025 to be effective 11/1/2024.

Filed Date: 5/30/25.

Accession Number: 20250530-5251.

Comment Date: 5 p.m. ET 6/11/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 30, 2025.
Carlos D. Clay,
Deputy Secretary.

[FR Doc. 2025-10214 Filed 6-4-25; 8:45 am]

BILLING CODE 6717-01-P